DEPARTMENT OF THE INTERIOR

Geological Survey

[GX19EE000101100]

Public Meeting (via Teleconference) of the National Earthquake Prediction Evaluation Council (NEPEC) Federal Advisory Committee

AGENCY: U.S. Geological Survey, Interior.

ACTION: Notice of public meeting (via teleconference).

SUMMARY: In accordance with the Federal Advisory Committee Act of 1972, the U.S. Geological Survey (USGS) is publishing this notice to announce that the National Earthquake Prediction Evaluation Council (NEPEC) will meet as indicated below.

DATES: The virtual meeting will be held on Monday, September 30, 2019, from 1 p.m. to 5 p.m. (Eastern Standard Time).

FOR FURTHER INFORMATION CONTACT: Dr. Michael Blanpied, U.S. Geological Survey, 12201 Sunrise Valley Drive, Mail Stop 905, Reston, VA 20192; by email at mblanpied@usgs.gov; or by telephone at (703) 648-6696.

SUPPLEMENTARY INFORMATION: The NEPEC provides advice and recommendations to the Director of the USGS on earthquake predictions and related scientific research.

Purpose of the Meeting: The USGS will update the NEPEC on work in response to prior recommendations, most notably on initial implementation of a nationwide operational aftershock forecasting system, and on planned improvements to that system in the coming year. The USGS will also solicit input from the NEPEC on the agenda for a face-to-face meeting to be scheduled in the next fiscal year. Additional information about the NEPEC meeting is available at: http://earthquake.usgs.gov/aboutus/nepec/.

Agenda Topics:

—Updates to the council on implementation of a nationwide operational aftershock forecasting system, and future planned improvements;

—Soliciting input from the council on the agenda for a face-to-face meeting to be scheduled in the next fiscal year; and

—Public comment period.

Meeting Accessibility/Special Accommodations: The virtual meeting is open to the public. Members of the public wishing to participate in the virtual meeting should contact Dr. Michael Blanpied by email at mblanpied@usgs.gov to register no later than five (5) business days prior to the meeting. Virtual meeting (teleconference) call-in information will be provided at that time. Time will be allowed at the virtual meeting for any individual or organization wishing to make formal oral comments.

Public Disclosure of Comments: Interested members of the public may submit relevant information for the NEPEC to consider during the teleconference. To allow for full consideration of information by the NEPEC members, written notice must be provided to Dr. Michael Blanpied, U.S. Geological Survey, 12201 Sunrise Valley Drive, Mail Stop 905, Reston, VA 20192; by email at mblanpied@usgs.gov; or by telephone at (703) 648-6696, at least five (5) business days prior to the meeting. Any written comments received will be provided to the NEPEC members.

Before including your address, phone number, email address, or other personal identifying information in your comment, you should be aware that your entire comment—including your personal identifying information—may be made publicly available at any time. While you may ask us in your comment to withhold your personal identifying information from public review, we cannot guarantee that we will be able to do so.

Authority: 5 U.S.C. Appendix 2.

Trent Richardson,
Deputy Associate Director for Natural Hazards.

[FR Doc. 2019-18822 Filed 8-29-19; 8:45 am]

BILLING CODE 4338-11-P